GENERAL SERVICES ADMINISTRATION

[OMB Control No. 3090-0250; Docket No. 2020-0001; Sequence No. 7]

Information Collection; General Services Administration Acquisition Regulation; Zero Burden Information Collection Reports

AGENCY: Office of the Chief Acquisition Officer, General Services Administration (GSA).

ACTION: Notice of request for public comments regarding an extension to an existing OMB information collection.

SUMMARY: Under the provisions of the Paperwork Reduction Act, the Regulatory Secretariat Division (MVCB) will be submitting to the Office of Management and Budget (OMB) a request to review and approve an extension of a previously approved information collection requirement regarding Zero Burden Information Collection Reports.

DATES: Submit comments on or before: December 7, 2020.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Thomas O'Linn, Procurement Analyst, General Services Acquisition Policy, at 202-445-0390 or via email at Thomas.olinn@gsa.gov

SUPPLEMENTARY INFORMATION:

A. Purpose

This information requirement consists of reports that do not impose collection burdens upon the public. These collections require information which is already available to the public at large, or that is routinely exchanged by firms during the normal course of business. A general control number for these collections decreases the amount of paperwork generated by the approval process.

Under clause 552.238-73, “Identification of Electronic Office Equipment Providing Accessibility for the Handicapped,” (previous clause number 552.238-70) the offeror is encouraged to identify office equipment, including any special peripheral that will facilitate electronic office equipment accessibility for handicapped individuals in its commercial catalogs and pricelists accepted by the Government.

B. Annual Reporting Burden

None.

C. Public Comments

A 60-day notice published in the Federal Register at 85 FR 53003 on August 27, 2020. No comments were received.

Obtaining Copies of Proposals: Requesters may obtain a copy of the information collection documents from the General Services Administration, Regulatory Secretariat Division (MVCB), 1800 F Street NW, Washington, DC 20405, telephone 202-501-4755. Please cite OMB Control No. 3090-0250, Zero Burden Information Collection Reports, in all correspondence.

Jeffrey A. Koses,
Senior Procurement Executive, Office of Acquisition Policy, Office of Government-wide Policy.

[FR Doc. 2020-24725 Filed 11-5-20; 8:45 am]

BILLING CODE 6820-61-P